NUCLEAR REGULATORY COMMISSION

Advisory Committee on Nuclear Waste; Revised

The agenda for the 121st meeting of the Advisory Committee on Nuclear Waste (ACNW) scheduled to be held on September 19-20, 2000 at the Crowne Plaza Hotel, Ballroom C, 4255 South Paradise Road, Las Vegas, Nevada, has been revised to include the following topics for discussion:

The entire meeting will be open to public attendance.

The schedule for this meeting is as follows:

Tuesday, September 19, 2000

A. 8 a.m.—9 a.m.: ACNW Planning and Procedures (Open)—The Committee will consider topics proposed for future consideration by the full Committee and Working Groups. The ACNW will discuss planned tours and ACNW-related activities of individual members.

B. 9 a.m.—12 Noon: Key Technical Issues (KTI) (Open)—Representatives of the NRC staff will discuss their process and most recent progress in the achieving closure of several KTIs.

C. 1 p.m.—4:30 p.m.: Public Comments (Open)—The Committee will hear comments from stakeholders. Among those groups that have indicated their intent to provide brief comments: the State of Nevada, counties, native American tribes, and the Nevada Nuclear Waste Task Force. Other comments from parties in attendance will be accepted as time permits.

D. 4:30 p.m.—5:30 p.m.: 2001 Action Plan Issues (Open)—The Committee will discuss potential future technical activities for the upcoming year.

E. 5:30 p.m.—6 p.m.: Miscellaneous (Open)—The Committee will discuss miscellaneous matters related to the conduct of the Committee and organizational activities and complete discussion of matters and specific issues that were not completed during previous meetings, as time and availability of information permit.

Wednesday, September 20, 2000

F. 8 a.m.—8:30 a.m.: DOE's Progress on Proposed Repository at Yucca Mountain, Nevada (Open)—Representatives of the Department of Energy (DOE) will brief the Committee on recent progress at Yucca Mountain.

G. 8:30 a.m.—9:15 a.m.: DOE's Site Recommendation Considerations Report (SRCR) (Open)—Representatives of the DOE will update the Committee on the status of the SRCR.

H. 9:15 a.m.—12 Noon: Total System Performance Assessment—Site Recommendations (TSPA-SR) (Open)—DOE representatives will provide an update and discuss major aspects of the TSPA-SR.

I. 1 p.m.—2 p.m.: Chlorine ³⁶ Issue (Open)—DOE representatives will provide an update as to their most recent findings on this issue.

J. 2 p.m.—3:15 p.m.: Fluid Inclusion Issues (Open)—A panel comprised of DOE, State of Nevada and UNLV experts will discuss the results of their most recent studies on this issue.

K. 3:30 p.m.—4:30 p.m.: Site Status—Tour (Open)—A DOE representative will provide the ACNW with a preview of the relevant activities and tour stops scheduled for the September 21st visit by the Committee of the proposed repository at Yucca Mountain.

L. 4:30 p.m.—6:30 p.m.: Prepare for the October Public Meeting with the Commission (Open)—The ACNW will finalize preparations for the next public meeting with the Commission. The meeting is tentatively scheduled for October 17, 2000. Potential topics for discussion include: Highlights of the Committee's recent European trip, Risk Informed Regulation in the Office of Nuclear Material Safety and Safeguards, ACNW Action Plan and Priority Topics, and comments on the staff's Yucca Mountain Site Sufficiency Strategy.

All other items pertaining to this meeting remains the same as published in the Federal Register on Tuesday, September 5, 2000 (65 FR 53771).

Further information regarding this meeting can be obtained by contacting Mr. Howard J. Larson, ACNW (Telephone 301/415-6805), between 8 a.m. and 5 p.m. EDT.

Dated: September 12, 2000.
Andrew L. Bates,
Advisory Committee Management Officer.

[FR Doc. 00-24060 Filed 9-18-00; 8:45 am]

BILLING CODE 7590-01-P